DEPARTMENT OF JUSTICE

Notice of Lodging of Consent Decree, under the Comprehensive Environmental Response, Compensation, and Liability Act of 1980, as Amended (“CERCLA”)

Pursuant to 29 CFR 50.7, notice is hereby given that on October 31, 2006, a proposed consent decree in United States v. Bill D. Stallings and Stallings Salvage, Inc., Civil action No. 3:05CV247-H, was lodged with the United States District Court for the Western District of North Carolina.

This Consent decree will resolve claims asserted by the United States in a complaint previously filed against defendants Bill D. Stallings and Stallings Salvage, Inc., for past costs incurred by EPA at the Stallings Salvage Site in Monroe, North Carolina. A complaint was filed on May 31, 2005, alleging that defendant Bill D. Stallings is liable as a past owner of the Site at the time of disposal pursuant to CERCLA Section 107(a)(2), and that defendant Stallings Salvage, Inc. is liable as an operator at the Site at the time of disposal, also pursuant to CERCLA 107(a)(2).

The Defendants agree to pay to the EPA Hazardous Substance Superfund the principal sum of $150,000 plus accrued interest, to be made in five installments. The first payment, in the amount of $10,000, is due within 30 days of entry of the Consent Decree. There will be three subsequent annual payments of $39,750.00 each, and a fourth and final annual payment consisting of the remaining principal owed, plus accrued interest. The final payment should be in roughly the same amount as the previous payments, depending on the actual interest rates each year. The Consent Decree provides that the annual payments will be funded through an escrow account to be established by the Defendants.

The Department of Justice will receive for a period of thirty (30) days from the date of this publication comments relating to the consent decree. Comments should be addressed to the Assistant Attorney General, Environment and Natural Resources Division, P.O. Box 7611, U.S. Department of Justice, Washington, DC 20044-7611, and should refer to United States v. Bill D. Stallings and Stallings Salvage, Inc., D.J. Ref. #90-11-3-08007/1.

The consent decree may be examined at the Office of the United States Attorney for the Western District of North Carolina, 227 West Trade St., Suite 1650, Charlotte, NC 28202, and at U.S. EPA Region 4, Office of Regional Counsel, 61 Forsyth Street, Atlanta, GA 30303. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the U.S. Treasury.

Henry Friedman,
Assistant Section Chief, Environmental Enforcement Section, Environment and Natural Resources Division.

[FR Doc. 06-9167 Filed 11-9-06; 8:45 am]

BILLING CODE 4410-15-M